NATIONAL AERONAUTICS AND SPACE ADMINISTRATION

[Notice 12-046]

NASA Advisory Council; Science Committee; Meeting

AGENCY: National Aeronautics and Space Administration.

ACTION: Notice of meeting.

SUMMARY: In accordance with the Federal Advisory Committee Act, Public Law 92-462, as amended, the National Aeronautics and Space Administration (NASA) announces a meeting of the Science Committee of the NASA Advisory Council (NAC). This Committee reports to the NAC. The meeting will be held for the purpose of soliciting, from the scientific community and other persons, scientific and technical information relevant to program planning.

DATES: Monday, July 23, 2012, 8:30 a.m. to 5 p.m., and Tuesday, July 24, 2012, 8:30 a.m. to 2:30 p.m., local time.

ADDRESSES: NASA Goddard Space Flight Center (GSFC), Building 1, Room E100E, 8800 Greenbelt Road, Greenbelt, MD 20771.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting is also available telephonically and by WebEx. Any interested person may call the USA toll free conference call number (800) 369-1786, pass code Science Committee, to participate in this meeting by telephone. The WebEx link is https://nasa.webex.com/, the meeting number on July 23 is 990 388 822, and the password is SC@July23; the meeting number on July 24 is 992 625 699, and the password is SC@July24. The agenda for the meeting includes the following topics:

—Science Mission Directorate Overview and Program Status

—Subcommittee Reports

—Joint Session with the NAC's Human Exploration and Operations Committee on the Mars Program Planning Group and Joint Robotics Precursor Activities

It is imperative that the meeting be held on these dates to accommodate the scheduling priorities of the key participants. All attendees will be requested to sign a register and to comply with NASA security requirements. Visitors must show a valid State or Federal issued picture ID, green card, or passport, before receiving an access badge to enter into GSFC and must state that they are attending the NAC's Science Committee meeting in Building 1. All U.S. citizens and green card holders desiring to attend must provide their full name, company affiliation (if applicable), and citizenship to Marian Norris via email at mnorris@nasa.gov or by telephone at (202) 358-4452 no later than the close of business July 16, 2012. Foreign Nationals must provide the following information: full name, gender, date/place of birth, citizenship, home address, visa information (number, type, expiration date), passport information (number, country of issue, expiration date), employer/affiliation information (name of institution, title/position, address, country of employer, telephone, email address), and an electronically scanned or faxed copy of their passport and visa to Marian Norris via email at mnorris@nasa.gov or by fax at (202) 358-4118 no later than close of business July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Patricia D. Rausch,
Advisory Committee Management Officer, National Aeronautics and Space Administration.

[FR Doc. 2012-15548 Filed 6-25-12; 8:45 am]

BILLING CODE 7510-13-P